DEPARTMENT OF THE INTERIOR

National Park Service

[NPS-WASO-NRNHL-DTS#-27612; PPWOCRADI0, PCU00RP14.R50000]

National Register of Historic Places; Notification of Pending Nominations and Related Actions

AGENCY: National Park Service, Interior.

ACTION: Notice.

SUMMARY: The National Park Service is soliciting comments on the significance of properties nominated before March 30, 2019, for listing or related actions in the National Register of Historic Places.

DATES: Comments should be submitted by May 7, 2019.

ADDRESSES: Comments may be sent via U.S. Postal Service and all other carriers to the National Register of Historic Places, National Park Service, 1849 C St. NW, MS 7228, Washington, DC 20240.

SUPPLEMENTARY INFORMATION:

The properties listed in this notice are being considered for listing or related actions in the National Register of Historic Places. Nominations for their consideration were received by the National Park Service before March 30, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

CALIFORNIA

Santa Barbara County

Santa Barbara Club, 1105 Chapala St., Santa Barbara, SG100003919

IDAHO

Jefferson County

Ririe Community Hall, 455 Main St., Ririe, SG100003924

ILLINOIS

Cook County

Chicago Municipal Tuberculosis Sanitarium District, 5601-6000 N Pulaski Rd., Chicago, SG100003913

Du Page County

Lilacia Park Historic District, 150 S Park Ave. Lombard, SG100003914

IOWA

Johnson County

Borts, Albert J. and Alice E., House, 416 Reno St., Iowa City, SG100003921

MINNESOTA

Hennepin County

Thompson Flats, 1605-1607 Hennepin Ave. S Minneapolis, SG100003916

NEW JERSEY

Hudson County

Walker, William Hall, Gymnasium, 6th St. at Fieldhouse Rd., Castle Point on Hudson, Hoboken, SG100003907

SOUTH CAROLINA

Florence County

Woodlawn, 10 Kings Rd., Quinby, SG100003917

Horry County

Tawana Motel, 7501 N Ocean Blvd., Myrtle Beach, SG100003918

TENNESSEE

Bedford County

Thompson Creek Rural Historic District, (Agricultural Resources of Bedford County, Tennessee, 1805-1969 MPS), Along sections of US 41-A, Normandy, Cathey, Thompson Creek & Shofner Rds., Hornaday Ln. & Three Forks Bridge, Wartrace, MP100003898

Cannon County

Brown-Hancock House, 110 W Water St., Woodbury, SG100003901

Davidson County

Clover Bottom Farm (Boundary Increase), 2941 Lebanon Rd., Nashville, BC100003900

Jackson County

Sutton, T.B., General Store, 169 Clover St., Granville, SG100003902

Monroe County

Tennessee Military Institute Residential Historic District, 1310, 1311 & 1313 Peachtree St., Sweetwater, SG100003903

Shelby County

Barretville Bank and Trust Company Building, 9043 Barret Rd., Millington, SG100003904

U.S. Marine Hospital, 360 Metal Museum Dr., Memphis, SG100003905

White County

Sparta Residential Historic District (Boundary Increase), 8 E College St., Sparta, BC100003906

TEXAS

Comal County

Kabelmacher House, 23968 TX 46, Spring Branch vicinity, SG100003922

Dallas County

Cabana Motor Hotel, 899 N Stemmons Frwy., Dallas, SG100003923

WISCONSIN

Brown County

Green Bay Downtown Historic District, Portions of Pine, Cherry, E Walnut & Doty Sts. bounded by S Washington, N Madison &N Jefferson Sts., Green Bay, SG100003920

Milwaukee County

16th Street Viaduct, N 16th from W Clybourn to W Pierce Sts. Milwaukee, SG100003908

St. Matthew Christian Methodist Episcopal Church, 2944 N 9th St., Milwaukee, SG100003909

Racine County

Gold Medal Camp Furniture Company, 1700-1701 Packard Ave. Racine, SG100003915

In the interest of preservation, a SHORTENED comment period has been requested for the following resource:

FLORIDA

Leon County

Grove, The (Boundary Increase), Adams St. and 1st Ave., Tallahassee, BC100003925

Comment period: 3 days

A request for removal has been made for the following resource:

ARIZONA

Pinal County

C.H. Cook Memorial Church, Church St., Sacaton, OT75000359

Additional documentation has been received for the following resource:

TENNESSEE

Davidson County

Clover Bottom Farm, 2941 Lebanon Rd., Nashville, AD75001747

Authority: Section 60.13 of 36 CFR part 60.

Dated: April 2, 2019.
Kathryn G. Smith,
Acting Chief, National Register of Historic Places/National Historic Landmarks Program.

[FR Doc. 2019-08044 Filed 4-19-19; 8:45 am]

BILLING CODE 4312-52-P